DEPARTMENT OF COMMERCE

International Trade Administration

North American Free Trade Agreement, Article 1904 NAFTA Panel Reviews; Notice of Panel Decision

AGENCY: NAFTA Secretariat, United States Section, International Trade Administration, Department of Commerce.

ACTION: Notice of panel decision.

SUMMARY: On June 9, 2005, the binational panel issued its decision in the review of the final results of the affirmative antidumping duty re-determination on remand made by the International Trade Administration (ITA) respecting Certain Softwood Lumber Products from Canada (Secretariat File No. USA-CDA-2002-1904-02) affirmed in part and remanded in part the determination of the Department of Commerce. The Department will return the re-determination on remand not later than July 11, 2005. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a request for panel review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These rules were published in the Federal Register on February 23, 1994 (59 FR 8686).

Panel Decision: On June 9, 2005, the Binational Panel affirmed in part and remanded in part the Department of Commerce's final antidumping duty determination on remand. The following issues were remanded to the Department:

1. To render a negative less than fair value (LTFV) determination with respect to exports by respondent West Fraser Mills, and to revoke the antidumping duty order on Softwood Lumber from Canada with respect to exports by West Fraser Mills; and it is further ordered that

2. The Panel remands this case to the Department, with instructions for the Department to recalculate the final LTFV margins for respondents other than West Fraser without regard to “zeroing”.

The Panel affirmed Commerce's amended final LTFV determination with respect to all other issues.

Commerce was directed to issue its determination on remand within 30 days of the issuance of the panel decision or not later than July 11, 2005.

Dated: June 9, 2005.
Caratina L. Alston,
United States Secretary, NAFTA Secretariat.

[FR Doc. E5-3070 Filed 6-14-05; 8:45 am]

BILLING CODE 3510-GT-P